DEPARTMENT OF TRANSPORTATION

National Highway Traffic Safety Administration

49 CFR Part 571

[Docket No. NHTSA 00-8633]

RIN 2127-AH96

Federal Motor Vehicle Safety Standards—Motor Vehicle Brake Fluids

AGENCY: National Highway Traffic Safety Administration (NHTSA), Department of Transportation.

ACTION: Notice of proposed rulemaking.

SUMMARY: This document proposes technical modifications in two of the tests included in our standard on brake fluid, i.e., the evaporation test and the corrosion test. The purpose of the modifications would be to improve the repeatability and reproducibility of the tests. This document also requests comments concerning retention of the evaporation test. A committee of the Society of Automotive Engineers, which originally developed the test, recently voted to delete the test from its standard on brake fluid. While we have tentatively concluded that the test should remain in our standard, we are requesting comments on that issue.

DATES: Comments must be received by March 19, 2001.

ADDRESSES: You should mention the docket number of this document in your comments and submit your comments in writing to: Docket Management, Room PL-401, 400 Seventh Street, SW., Washington, DC, 20590. Alternatively, you may submit your comments to the docket electronically by logging onto the Dockets Management System website at http://dms.dot.gov. Click on “Help & Information” or “Help/Info” to obtain instructions for filing the document electronically. (This website also enables you to view the materials in the docket for this rulemaking.) You may call Docket Management at 202-366-9324. You may visit the Docket from 10 a.m. to 5 p.m., Monday through Friday.

FOR FURTHER INFORMATION CONTACT: For legal issues: Edward Glancy, Office of the Chief Counsel, National Highway Traffic Safety Administration, 400 Seventh Street, SW, Washington, DC 20590 (202-366-2992).

For other issues: Sam Daniel, Office of Crash Avoidance Standards, National Highway Traffic Safety Administration, 400 Seventh Street, SW, Washington, DC 20590 (202-366-4921).

SUPPLEMENTARY INFORMATION:

Table of Contents

I. Background

II. Proposal

A. Evaporation Test

B. Corrosion Test

III. Effective Date

IV. Rulemaking Analyses and Notices

A. Executive Order 12866 and DOT Regulatory Policies and Procedures

B. Regulatory Flexibility Act

C. National Environmental Policy Act

D. Executive Order 13132 (Federalism)

E. Unfunded Mandates Act

F. Executive Order 12778 (Civil Justice Reform)

G. Paperwork Reduction Act

H. Regulation Identifier Number (RIN)

I. Plain Language

J. Executive Order 13045

K. National Technology Transfer and Advancement Act

V. Submission of Comments

I. Background

Safety Standard No. 116, Motor Vehicle Brake Fluids, specifies requirements for fluids for use in hydraulic brake systems of motor vehicles, containers for these fluids, and labeling of the containers. The purpose of the standard is to reduce failures in the hydraulic braking systems of motor vehicles which may occur because of the manufacture or use of improper or contaminated fluid.

Among the requirements of Standard No. 116 are ones addressing the evaporation and corrosiveness of brake fluid. Both of these characteristics of brake fluid are important for the safe and effective operation of vehicles equipped with hydraulic brake systems. For example, if brake fluid evaporates, fluid volume is reduced, “vapor locking” can occur, and reduced braking performance or brake failure can occur. Similarly, if brake fluid causes corrosion of brake system components, brake fluid leaks can result, with effects similar to that of evaporation.

In administering Standard No. 116, we have identified several modifications in the standard's evaporation and corrosion tests that we believe would improve repeatability and reproducibility.¹ Those modifications, which we are proposing to incorporate in the standard, are discussed in the sections which follow.

¹ In order for a test to have good repeatability, there must not be undue variability in results when the same test is replicated at the same site. In order for a test to have good reproducibility, there must not be undue variability in results when the same test is replicated at different sites.

II. Proposal

A. Evaporation Test

Standard No. 116 specifies various performance requirements relating to evaporation that must be met when brake fluid is tested according to a specified procedure that involves heating the brake fluid in an oven for an extended period of time. Among other things, the loss by evaporation must not exceed 80 percent by weight. See S5.1.8 and S6.8 of the standard.

For a number of years, the agency has been concerned that the evaporation test may allow too much variability in test results. Because of this, we sponsored a study titled “Evaporation Test Variability Study,” which was published in May 1993. The study sought to identify and evaluate parameters of the brake fluid evaporation test procedure of Standard No. 116 that influence the high variability of results between laboratories. It also sought to develop procedural improvements to increase the precision and reproducibility of brake fluid evaporation measurements. This included validating procedural modifications by an interlaboratory round robin program using four designated brake fluids.

The study identified four means by which test result variability could be reduced: (1) Using a rotating shelf in the oven with a 6 rpm sample rotation, (2) specifying the location of the shelf supporting the sample within the oven, (3) controlling the oven temperature monitoring point, and (4) using oven calibration fluid for purposes of oven standardization. We are placing a copy of the study in the docket.

After we published the study, the Society of Automotive Engineers (SAE) committee on brake fluids initiated work to consider revising its evaporation test procedure to address these points. The SAE evaporation test procedure is set forth as part of Motor Vehicle Brake Fluid-SAE J1703 JAN95. The SAE committee developed a draft procedure that uses a rotating shelf oven, defines shelf placement, and includes temperature monitoring. The committee did not reach agreement on an oven calibration fluid because of concerns about lot variability.

More recently, however, the SAE committee voted to eliminate the evaporation test from its standard. Members of the committee believed that the requirement is outdated. The test was developed at a time when brake fluids did not have as good resistance to evaporation as today's brake fluids, and vehicle brake fluid systems were not sealed. Members of the committee also believed that the evaporation test is redundant with the boiling point test, which evaluates similar brake fluid properties.

Particularly given that the evaporation test included in Standard No. 116 was originally developed by SAE, we have considered, in light of SAE's action to delete the test from its standard, whether the test should be retained in our standard. We have tentatively concluded that the evaporation test should be retained in Standard No. 116. We are concerned that even though today's brake fluids may well have better resistance to evaporation than those in use when the test was originally developed, deletion of the test from Standard No. 116 could permit the introduction of inferior brake fluids into the United States market. Even if current brake fluid manufacturers would be unlikely to introduce such products, such introduction could come from new market entrants. Accordingly, we have tentatively decided to retain the evaporation test in Standard No. 116. We are, however, requesting comments on this issue.

Assuming that the evaporation test is retained in Standard No. 116, we believe it is appropriate to improve the repeatability and reproducibility of the test. While we believe there are unresolved technical issues concerning oven calibration fluid, we believe that the repeatability and reproducibility of the evaporation test can be improved by adopting the other means for reducing test result variability that were identified by the NHTSA-sponsored report and included in the SAE committee draft procedure. Accordingly, we are proposing to amend the test procedure to specify use of a rotating shelf oven, define shelf placement, and specify temperature monitoring.

We request comments on whether there are any other modifications to the evaporation test that would improve repeatability and reproducibility. Depending on the comments, we may, in the final rule, adopt additional modifications to the current test procedure and/or make changes in the specific modifications we are proposing.

B. Corrosion Test

Standard No. 116's corrosion test involves placing six metal strips (steel, tinned iron, cast iron, aluminum, brass and copper) in a standard brake wheel cylinder cup in a test jar, immersing the entire assembly in the brake fluid being tested, and then heating the fluid for an extended period of time. The metal strips and wheel cylinder cup represent the materials that comprise brake system components that are in contact with brake fluid (master cylinders, brake lines, caliper pistons, wheel cylinders, etc.).

A variety of performance requirements must be met at the end of the corrosion test procedure. Among other things, the metal strips are examined for weight change, which must not exceed specified percentages. See S5.1.6 and S6.6 of the standard.

While we do not have as much information concerning variability of the corrosion test as we do for the evaporation test, we have identified a change in the specification concerning how the metal strips are prepared prior to testing that we believe would improve repeatability and reproducibility. The standard currently specifies that each of the strips, other than the tinned iron strips, is to be abraded with wetted silicon carbide paper grit No. 320A until all surface scratches, cuts and pits are removed, and then polished with grade 00 steel wool.² We believe that less variability would result if the strips were further abraded with wetted silicon carbide paper grit No. 1200 instead of being polished with grade 00 steel wool, and if a visual acuity requirement for evaluating the presence of surface scratches, cuts and pits were specified.

² Tinned iron strips are not abraded or polished during preparation for corrosion testing because the tin coating is very thin and the test strips are highly polished to begin with.

The steel wool may produce slight surface irregularities due to interaction with dissimilar metals that the No. 1200 silicon carbide paper would not. The visual acuity requirement would ensure removal of all surface scratches, cuts and pits that are visible to an observer having corrected visual acuity of 20/40 (Snellen ratio) at a distance of 300 mm (11.8 inches).

III. Effective Date

We are proposing to make the amendments proposed in this document effective one year after publication of a final rule in the Federal Register.

IV. Rulemaking Analyses and Notices

A. Executive Order 12866 and DOT Regulatory Policies and Procedures

NHTSA has considered the impact of this rulemaking action under Executive Order 12866 and the Department of Transportation's regulatory policies and procedures. This rulemaking document is not economically significant. It was not reviewed by the Office of Management and Budget under E.O. 12866, “Regulatory Planning and Review.”

The proposed amendments would not affect the stringency of Standard No. 116, but would instead improve the repeatability and reproducibility of the standard's evaporation and corrosion tests. This would facilitate both the manufacturers' efforts in certifying their brake fluid and the agency's efforts in enforcing the standard.

The costs of the proposed amendments would be minimal. We estimate that there are five to 10 brake fluid manufacturers that provide brake fluid for the United States market, including OEM and aftermarket brake fluid, and a somewhat larger number of packagers of brake fluid. There are also as many as five independent organizations with brake fluid testing capability.

Each manufacturer, packager and organization that tested brake fluid would likely need to upgrade at least one oven so that it has a rotating shelf. We estimate the cost of modifying an existing oven at approximately $200. The cost of a new oven, which has a life expectancy of 10 to 20 years, is approximately $3,000.

Any change in cost of conducting an evaporation test or corrosion test would be so minimal as to be nonquantifiable. Therefore, the proposed rule is unlikely to result in any change in the cost of brake fluid.

B. Regulatory Flexibility Act

We have considered the effects of this rulemaking action under the Regulatory Flexibility Act (5 U.S.C. § 601 et seq.) I hereby certify that the proposed rule would not have a significant economic impact on a substantial number of small entities. Therefore, a regulatory flexibility analysis is not required for this action.

As discussed above, the proposed amendments would not affect the stringency of Standard No. 116, but would instead make technical modifications in the standard's evaporation test and corrosion test to improve repeatability and reproducibility. Any change in cost of conducting an evaporation test or corrosion test would be so minimal as to be nonquantifiable, and the proposed rule is unlikely to result in any change in the cost of brake fluid. Therefore, the proposed amendments would not have any significant economic impacts on small businesses, small organizations or small governmental jurisdictions.

C. National Environmental Policy Act

NHTSA has analyzed this proposed amendment for the purposes of the National Environmental Policy Act and determined that it would not have any significant impact on the quality of the human environment.

D. Executive Order 13132 (Federalism)

The agency has analyzed this proposal in accordance with the principles and criteria set forth in Executive Order 13132 and has determined that it does not have sufficient federalism implications to warrant consultation with State and local officials or the preparation of a federalism summary impact statement. The proposed rule would have no substantial effects on the States, or on the current Federalism-State relationship, or on the current distribution of power and responsibilities among the various local officials.

E. Unfunded Mandates Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). The proposed rule would not result in the expenditure by State, local or tribal governments, in the aggregate, or by the private sector, of more than $100 million annually.

F. Executive Order 12778 (Civil Justice Reform)

This proposed rule would not have any retroactive effect. Under section 49 U.S.C. 30103, whenever a Federal motor vehicle safety standard is in effect, a state may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

G. Paperwork Reduction Act

This rulemaking action does not include any collections of information.

H. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

I. Plain Language

Executive Order 12866 and the President's memorandum of June 1, 1998, require each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make the rule easier to understand?

If you have any responses to these questions, please include them in your comments on this NPRM.

J. Executive Order 13045

Executive Order 13045 (62 FR 19885, April 23, 1997) applies to any rule that: (1) is determined to be “economically significant” as defined under E.O. 12866, and (2) concerns an environmental, health or safety risk that NHTSA has reason to believe may have a disproportionate effect on children. This regulatory action does not meet either of those criteria.

K. National Technology Transfer and Advancement Act

Section 12(d) of the National Technology Transfer and Advancement Act (NTTAA) requires NHTSA to evaluate and use existing voluntary consensus standards ³ in its regulatory activities unless doing so would be inconsistent with applicable law (e.g., the statutory provisions regarding NHTSA's vehicle safety authority) or otherwise impractical. We note that the current evaporation and corrosion tests of Standard No. 116 are based on an SAE recommended practice. The proposed amendments, which would make modifications in those tests, are based on a draft procedure developed by an SAE committee.

³ Voluntary consensus standards are technical standards developed or adopted by voluntary consensus standards bodies. Technical standards are defined by the NTTAA as “performance-based or design-specific technical specifications and related management systems practices.” They pertain to “products and processes, such as size, strength, or technical performance of a product, process or material.”

V. Submission of Comments

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESS.

Comments may also be submitted to the docket electronically by logging onto the Dockets Management System website at http://dms.dot.gov. Click on “Help & Information” or “Help/Info” to obtain instructions for filing the document electronically.

How Can I Be Sure That my Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR Part 512.)

Will the Agency Consider Late Comments?

We will consider all comments that Docket Management receives before the close of business on the comment closing date indicated above under DATES. To the extent possible, we will also consider comments that Docket Management receives after that date. If Docket Management receives a comment too late for us to consider it in developing a final rule (assuming that one is issued), we will consider that comment as an informal suggestion for future rulemaking action.

How Can I Read the Comments Submitted by Other People?

You may read the comments received by Docket Management at the address given above under ADDRESSES. The hours of the Docket are indicated above in the same location.

You may also see the comments on the Internet. To read the comments on the Internet, take the following steps:

(1) Go to the Docket Management System (DMS) Web page of the Department of Transportation (http://dms.dot.gov/).

(2) On that page, click on “search.”

(3) On the next page (http://dms.dot.gov/search/), type in the four-digit docket number shown at the beginning of this document. Example: If the docket number were “NHTSA-1998-1234,” you would type “1234.” After typing the docket number, click on “search.”

(4) On the next page, which contains docket summary information for the docket you selected, click on the desired comments. You may download the comments.

Please note that even after the comment closing date, we will continue to file relevant information in the Docket as it becomes available. Further, some people may submit late comments. Accordingly, we recommend that you periodically check the Docket for new material.

List of Subjects in 49 CFR Part 571

Imports, Motor vehicle safety, Motor vehicles.

In consideration of the foregoing, we propose to amend 49 CFR Part 571 as set forth below.

1. The authority citation for Part 571 would continue to read as follows:

Authority. 49 U.S.C. 322, 30111, 30115, 30117 and 30166; delegation of authority at 49 CFR 1.50.

2. Section 571.116 would be amended by:

a. revising S6.6.3(e);

b. in S6.6.4(a), revising the first and third sentences;

c. revising S6.8.2(b); and

d. in S6.8.3, revising the fourth sentence and adding three new sentences after the fourth sentence.

The revised and added paragraphs would read as follows:

§ 571.116 Standard No. 116; Motor vehicle brake fluids.

* * * * *

S6.6.3 * * *

* * * * *

(e) Supplies for polishing strips. Waterproof silicon carbide paper, grit No. 320A and grit 1200; lint-free polishing cloth.

* * * * *

S6.6.4 * * *

(a) * * * Except for the tinned iron strips, abrade corrosion test strips on all surface areas with 320A silicon carbide paper wet with ethanol (isopropanol when testing DOT 5 SBBF fluids) until all surface scratches, cuts and pits visible to an observer having corrected visual acuity of 20/40 (Snellen ratio) at a distance of 300 mm (11.8 inches) are removed. * * * Except for the tinned iron strips, further abrade the test strips on all surface areas with 1200 silicon carbide paper wet with ethanol (isopropanol when testing DOT 5 SBBF fluids), again using a new piece of paper for each different type of metal. * * *

* * * * *

S6.8.2 * * *

* * * * *

(b) Oven. A top-vented gravity-convection oven equipped with a 6 rpm rotating shelf and capable of maintaining a temperature of 100° ± 2° C. (212° ± 4° F.). The center of the top surface of the rotating shelf coincides with the center of the oven.

* * * * *

S6.8.3 * * *

Level the oven and place the four petri dishes, each inside its inverted cover, on the rotating shelf in the oven at 100° ± 2° C. (212° ± 4° F.) for 46 ± 2 hours. The thermometer for monitoring oven temperature is placed 25 mm ± 5 mm (1 inch ± 0.2 inch) above the rotating oven shelf containing the petri dishes. The 100° C. mark on the thermometer is either outside the oven or the thermometer is capable of being read from outside the oven without opening the oven door. The oven door is not opened to read the thermometer during the test. * * *

* * * * *

Issued on: January 8, 2001.
Stephen R. Kratzke,
Associate Administrator for Safety Performance Standards.

[FR Doc. 01-1219 Filed 1-12-01; 8:45 am]

BILLING CODE 4910-59-P